GENERAL SERVICES ADMINISTRATION

48 CFR Parts 501, 507, 515, 538, and 552

[GSAR Case 2016-G506; Docket GSA-GSAR-2019-0009; Sequence 1]

RIN 3090-AJ483

General Services Administration Acquisition Regulation (GSAR); Updates to the Issuance of GSA's Acquisition Policy; Correction

AGENCY: Office of Acquisition Policy, General Services Administration.

ACTION: Final rule; correction.

SUMMARY: GSA is issuing a correction to GSAR Case 2016-G506; Updates to the Issuance of GSA's Acquisition Policy, which was published in the Federal Register on July 16, 2019. This correction amends the heading of the document.

DATES: Effective: August 27, 2019.

FOR FURTHER INFORMATION CONTACT: Mr. Thomas O'Linn, Procurement Analyst, at 202-445-0390, for clarification of content. For information pertaining to status or publication schedules, contact the Regulatory Secretariat Division at 202-501-4755. Please cite GSAR Case 2016-G509—Updates to the Issuance of GSA's Acquisition Policy. Corrections.

SUPPLEMENTARY INFORMATION:

Correction

In rule FR Doc. 2019-15056, published in the Federal Register at 84 FR 33858, on July 16, 2019, on page 33858, in the third column, in the docket number in the document heading, remove “GSAR Change 102”.

Jeffrey A. Koses,
Senior Procurement Executive, Office of Acquisition Policy, Office of Government-wide Policy.

[FR Doc. 2019-18408 Filed 8-26-19; 8:45 am]

BILLING CODE 6820-61-P